DEPARTMENT OF TRANSPORTATION

Federal Aviation Administration

Seventh Meeting: RTCA NextGen Advisory Committee (NAC)

AGENCY: Federal Aviation Administration (FAA), U.S. Department of Transportation (DOT).

ACTION: Meeting Notice of RTCA NextGen Advisory Committee (NAC).

SUMMARY: The FAA is issuing this notice to advise the public of the seventh meeting of the RTCA NextGen Advisory Committee (NAC).

DATES: The meeting will be held October 4, 2012, from 9 a.m.-3 p.m.

ADDRESSES: The meeting will be held at the secured facilities at the United States Air Force (USAF), Wright-Patterson Air Force Base, Dayton, OH, 45433.

FOR FURTHER INFORMATION CONTACT: The RTCA Secretariat, Andy Cebula, 1150 18th Street NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the NextGen Advisory Committee Meeting. The agenda will include the following:

October, 4, 2012

Special Facility Access Instructions

The meeting is being held at the secured facilities of the United States Air Force (USAF),

Wright-Patterson AFB, OH. All members of the public are required to register in advance by contacting HQ Air Force Operations NextGen Lead Service Office via email at NextGen@pentagon.af.mil not later than September 28, 2012 and provide the following:

• U.S. Citizens without current/valid DoD-issued Identification in their possession must provide the following information:

• Last name, First name (as it appears on your State Issued Drivers' License or ID)

• State-issued drivers' license/State-issued ID Card Number and State of Issuance

• Company

• Phone number contact

• Non-U.S. Citizens must provide the following information:

• Full Name as it appears on Passport

• Country of Citizenship

• Birthdate and Place of Birth (city and country)

• Passport and Visa Numbers, I-94 Stamp and Expiration Date

• Employer and Address—Identify whether U.S. or foreign owned

• Phone number contact

Note: Attendees must arrive no later than 1 hour prior to the start of the meeting for identification and security screening at Wright-Patterson AFB, Gate 19B.

Agenda

• Opening of Meeting—Chairman Dave Barger, President and CEO JetBlue Airways

• Welcome and Facility Overview—Major General James Jones, NAC Meeting Host

• Official Statement of Designated Federal Official—The Honorable Michael Huerta, FAA Acting Administrator.

• Review and Approval of May 24, 2012 Meeting Summary

• Chairman's Report—Chairman Barger

• FAA Report—Mr. Huerta

• Review and Approve Recommendation for Submission to FAA NextGen Implementation Metrics—a recommendation for:

• Executive-level set of metrics that capture an overall status of NextGen Implementation

• Key City Pairs that can be used for NextGen Metrics

• Data Sources for Measuring NextGen Fuel Impact

• A discussion of a preliminary report on a critical data source to track and analyze the impact of NextGen

• Non-Technical Barriers to NextGen Implementation

• Open discussion of issues that will affect the FAA Tasking on Implementing Metroplex capabilities

• Environmental Issues Impacting NextGen Implementation

• A background briefing by FAA Environmental Office on the Environmental review process for NextGen capabilities and the impacts on this process by the “FAA Modernization and Reform Act of 2012,” followed by an open discussion by the Committee.

• Anticipated Issues for NAC consideration and action at the next meeting, February 2013

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 28, 2012.
David Sicard,
Manager, Business Operations Group, Federal Aviation Administration.

[FR Doc. 2012-21836 Filed 9-4-12; 8:45 am]

BILLING CODE 4910-13-P